POSTAL SERVICE

39 CFR Part 111

Parcel Processing Categories Simplification

AGENCY: Postal Service™.

ACTION: Final rule.

SUMMARY: The Postal Service is amending Mailing Standards of the United States Postal Service, Domestic Mail Manual (DMM®) to simplify the parcel processing categories.

DATES: Effective November 4, 2024.

FOR FURTHER INFORMATION CONTACT: Steven Jarboe at (202) 268-7690, or Garry Rodriguez at (202) 268-7281.

SUPPLEMENTARY INFORMATION: On June 28, 2024, the Postal Service published a notice of proposed rulemaking (89 FR 53914-53932) to simplify the parcel processing categories by making revisions to the physical standards of the machinable processing category, and consolidating the irregular and nonmachinable processing categories and renaming it “Nonstandard Parcels.” In response to the proposed rule, the Postal Service received three formal responses each containing several comments as follows:

Comment: One comment questioned whether the Postal Service intended to reduce the maximum height from 18 inches to 15 inches, and increase the maximum thickness/width from 15 inches to 18 inches?

Response: No, the Postal Service is just expressing the industry wide terms of length, width, and height for consistency within the DMM. The Postal Service will also revise the renumbered DMM Exhibit 201.7.5 and USPS Marketing Mail DMM subsection 201.8.4.2a to reflect width and height.

Comment: One comment provided that the proposal eliminates the minimum weight for Bound Printed Matter machinable parcels and given that change it appears there is very little Bound Printed Matter that would be nonstandard, except perhaps nonrectangular containers such as mailing tubes, which are rarely used for BPM. Any BPM that is nonstandard would be difficult and likely unproductive to bundle, due to its shape. As a result, it was requested that the Postal Service consider removing the bundling requirement for BPM nonstandard parcels weighing less than ten pounds, currently in DMM 245.8.2.

Response: The Postal Service agrees with the request and will remove DMM subsection 245.8.2 and will revise DMM 245.8.3 as the general requirement for mailing nonstandard parcels regardless of weight.

Comment: One comment provided that DMM subsection 255.4.4.3 currently requires DNDC nonmachinable parcels that each weigh 25 pounds or less must be sacked under DMM section 5.0, Preparing Machinable Parcels, and that line 2 of the sack labels be marked as MACH, rather than NONSTD.

Response: The issue is beyond the scope of this notice, however, the Postal Service will take this into consideration for a future revision.

Comment: One comment provided that DMM subsection 255.4.3.3f requires the use of PSCV PARCELS SCF for DSCF SCF sacks. However, there is no CIN code in 204 Exhibit 3.2.4 that matches the human readable line PSCV PARCELS SCF. We suggest that the human readable line should instead be PSVC MACH SCF (which does have a listed CIN code), since only machinable parcels are sacked at the SCF level. (Nonstandard parcels are required to be sacked at the 3D level, before reaching the SCF level.)

Response: While the comment is beyond the scope of this FRN, the Postal Service has reviewed the request and will revise the CIN code in DMM Exhibit 204.3.2.4 to read as PSVC MACH SCF.

Comment: Two comments stated the proposed November implementation date does not realistically reflect the effort required to execute necessary changes irrespective of whenever the Postal Service publishes a final rule.

Response: The Postal Service realized the needs of mailers and as a result the proposed rule provided that while the effective date was November 1, 2024, implementation was not expected until January 19, 2025.

Comment: One comment provided that parallel regulatory developments could affect the regulatory categorization of lightweight packages. For example, were the Postal Regulatory Commission to determine that Parcel Select—whole or in part—would be more properly categorized as a Market Dominant product, further development efforts would then be required.

Response: The revisions in the proposed rule address current products as they exist today.

Comment: One comment stated the DMM references included in the Notice are inconsistent regarding whether the term Nonstandard will be used for all retail parcels, all commercial parcels, or all parcels.

Response: Retail parcels are not categorized by processing categories. The proposed rule outlined what products would not be affected and the products that would be affected along with the applicable revisions.

Comment: One comment stated any package weighing less than 3.5 ounces, or in which contents may shift within a container, would be subject to an additional fee. Such a broad proposal could significantly impact certain categories such as clothing and pharmaceuticals. These categories often utilize standard fulfillment practices making use of poly bagging because it allows greater flexibility. Many users in these categories are price sensitive and imposition of a fee could put substantial volumes at risk by obviating the Postal Service's cost advantages with shipments that fit inside a mailbox.

Response: Nonstandard fees only to apply to packages that exceed set limits. Packages under 3.5 ounces would not be charged non-standard fees unless they exhibited a length over 22″, over 30″, or over 2 cubic feet in volume.

Comment: One comment provided the minimum size requirement warrants further clarification as the proposed rule implies that packages smaller than 4 inches x 6 inches may be non-mailable. Our concern is that this could force shippers into larger containers to avoid a fee and thereby increase postal handling costs.

Response: There is no dimensional requirement in the proposed rule for a package to be 4 inches x 6 inches. The only requirement is for a properly prepared label to be placed on a single optical plane without bending, folding, or overlapping. The “Parcel Labeling Guide” provides further information on label requirements.

The Postal Service is revising the “machinable” processing category by removing the minimum size dimensions requirement and, except for USPS Marketing Mail parcels, the minimum weight requirement. Except for cylindrical tubes and rolls or similar shaped pieces, and for labeling requirements in Publication 52, Hazardous, Restricted, and Perishable Mail, the minimum size of a machinable parcel will be determined by if it is large enough to hold the required delivery address, return address, mailing labels, postage, barcode, endorsements, and other mail markings on a single optical plane without bending, folding, or overlapping. All labels and markings must meet the applicable specifications (e.g., DMM, Publication 199, Parcel Labeling Guide). A parcel that does not meet this requirement will be considered nonmailable. Except for USPS Marketing Mail parcels, which will continue to have the 3.5 ounce minimum to be a machinable parcel, the minimum weight requirement for other parcels will no longer be a factor in determining machinability.

The “Nonstandard Parcels” processing category will continue to have a size and weight component that will consist of parcels that exceed the maximum dimensions of a machinable parcel, parcels that weigh less than the 3.5 ounce minimum weight for USPS Marketing Mail parcels only, and parcels that exceed the 25 pound maximum weight for a machinable parcel. The “Nonstandard Parcels” processing category will also have a “Characteristics” component that will define the criteria that will be used to determine if a parcel is nonstandard (e.g., cylindrical tubes and rolls, packaging). The “Characteristics” component of “Nonstandard Parcels” will be supported by DMM sections 601.3.0, Packaging, and 601.4.0, Acceptable Mailing Containers. The packaging criteria in DMM section 601.7.0, Packaging Standards for Mail Processed at Network Distribution Centers, will be consolidated into DMM section 601.3.0. The Postal Service is also revising the packaging standards under DMM section 601.3.0 to include that except for hazardous, restricted, and perishable items as provided in Publication 52, all other parcel priced pieces must be packaged in a box or other acceptable container that meets the applicable standards under DMM sections 601.3.0 and 601.4.0.

The revisions to parcel processing categories will not affect the Priority Mail Express®, Priority Mail®, USPS Ground Advantage®, or USPS Connect® Local, products. The revisions will result in no minimum size dimensions requirement, except for USPS Marketing Mail no minimum weight requirements, and a nomenclature change, for parcel preparation under the Parcel Select® Destination Entry, Library Mail, Media Mail®, Bound Printed Matter, Periodicals, and USPS Marketing Mail parcels (regular and nonprofit) products. Based on a request in the comments above, the Postal Service will revise the nonstandard Bound Printed Matter preparation standards.

In addition, the Postal Service is making minor revisions to the “Additional Physical Standards” subsections under DMM 101 and 201 to remove redundancy.

The Postal Service intends to notify the Postal Regulatory Commission (PRC) of these revisions for updates to the Mail Classification Schedule in a future filing. The Postal Service also intends to revise all collateral material (e.g., Notice 123, Price List) in a future update.

Effective Date

While the effective date is November 4, 2024, sack, tray, and pallet, label compliance will not be required until January 19, 2025.

We believe these revisions will simplify the parcel processing categories providing mailers with a more efficient process for shipping.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

100 Retail Mail Letters, Cards, Flats, and Parcels

101 Physical Standards

* * * * *

3.0 Physical Standards for Parcels

3.1 Processing Categories

[Revise the text of 3.1 to read as follows:]

USPS categorizes parcels into one of two mail processing categories: machinable or nonstandard parcel. These categories are based on the physical dimensions of the parcel, and the placement of the delivery address and all required labels on the parcel (see 601.1.1.5 for mailabilty). For additional information on the machinable and nonstandard processing categories see 201.7.0.

[Revise the heading and text of 3.2 to read as follows:]

3.2 Size and Weight

3.2.1 Size

Parcel sizes are as follows:

a. Minimum size: Except for cylindrical tubes and rolls or similar shaped pieces and labeling exceptions in Publication 52, all parcels must be large enough to hold the required delivery address, return address, mailing labels, postage, barcode, endorsements, and other mail markings on a single optical plane without bending, folding, or overlapping (see 601.1.1.5). All labels and markings must meet the applicable specifications (e.g., DMM, Publication 199, Parcel Labeling Guide).

b. Maximum size: Except for USPS Ground Advantage—Retail, which may not measure more than 130 inches in length and girth combined, no mailpiece may measure more than 108 inches in length and girth combined. For parcels, length is the distance of the longest dimension and girth is the distance around the thickest part.

3.2.2 Weight

Except as provided under 4.0 through 7.0, no mailpiece may weigh more than 70 pounds.

* * * * *

4.0 Additional Physical Standards for Priority Mail Express

[Revise the text of 4.0 to read as follows:]

Lower size and weight standards than provided under 3.2 may apply to Priority Mail Express addressed to certain APO/FPO and DPO mail subject to 703.2.0, and 703.4.0, and for Department of State mail subject to 703.3.0.

5.0 Additional Physical Standards for Priority Mail

[Revise the text of 5.0 to read as follows:]

Lower size and weight standards than provided under 3.2 may apply to Priority Mail addressed to certain APO/FPO and DPO mail subject to 703.2.0, and 703.4.0, and for Department of State mail subject to 703.3.0.

6.0 Additional Physical Standards for First-Class Mail and USPS Ground Advantage—Retail

6.1 Maximum Weight

[Delete the heading 6.1.1 and move revised text under 6.1 to read as follows:]

First-Class Mail (letters and flats} must not exceed 13 ounces.

[Delete 6.1.2, USPS Ground Advantage—Retail, in its entirety.]

* * * * *

6.4 Parcels

[Revise the introductory text of 6.4 to read as follows;]

A USPS Ground Advantage—Retail parcel is the following:

* * * * *

[Delete item d in its entirety.]

7.0 Additional Physical Standards for Media Mail and Library Mail

[Delete the introductory text and items a and b. Move the text of item c under 7.0 and revise as follows:]

Lower size and weight standards than provided under 3.2 may apply to Library Mail and Media Mail addressed to certain APOs and FPOs, subject to 703.2.0 and 703.4.0 and for Department of State mail, subject to 703.3.0.

* * * * *

120 Retail Mail Priority Mail

123 Prices and Eligibility

* * * * *

2.0 Basic Eligibility Standards for Priority Mail

2.1 Description of Service

[Revise the last sentence of 2.1 to read as follows:]

* * * Certain Priority Mail mailpieces, such as pieces containing hazardous material or considered nonstandard (e.g., oversized priced pieces and nonstandard fee-priced pieces), may receive deferred handling.

* * * * *

130 Retail Mail First-Class Mail and USPS Ground Advantage—Retail

133 Prices and Eligibility

* * * * *

2.0 Basic Eligibility Standards for First-Class Mail and USPS Ground Advantage—Retail

2.1 Description of Service

[Revise the last sentence of 2.1 to read as follows:]

* * * Certain USPS Ground Advantage—Retail mailpieces, such as pieces containing hazardous material or considered nonstandard (e.g., oversized priced pieces and nonstandard fee-priced pieces), may receive deferred handling.

* * * * *

200 Commercial Letters, Cards, Flats, and Parcels

201 Physical Standards

* * * * *

7.0 Physical Standards for Parcels

7.1 Processing Categories

[Revise the text of 7.1 to read as follows:]

USPS categorizes parcels into one of two mail processing categories: machinable or nonstandard. These categories are based on the physical dimensions of the piece, and the placement of the delivery address and other required labels on the piece (see 601.1.1.5 for mailability).

7.2 Minimum Size

[Revise the text of 7.2 to read as follows:]

Pieces are subject to the minimum standards in 7.5, and may be subject to other minimum dimensions, based on the standards for specific prices. Except for cylindrical tubes and rolls or similar shaped pieces and labeling exceptions in Publication 52, generally the minimum size of a parcel is any piece that is not a letter or a flat and must be large enough to hold the required delivery address, return address, mailing labels, postage, barcode, endorsements, and other mail markings on a single optical plane without bending, folding, or overlapping (see 601.1.1.5). All labels and markings must meet the applicable specifications (e.g., DMM, Publication 199, Parcel Labeling Guide).

7.3 Maximum Weight and Size

7.3.1 Maximum Weight

[Revise the text of 7.3.1 to read as follows:]

Except as provided under 8.0, no mailpiece may weigh more than 70 pounds.

* * * * *

7.5 Machinable Parcels

7.5.1 Criteria

[Delete the heading 7.5.1, Criteria, and move the text under 7.5. Revise the text of renumbered 7.5 to read as follows:]

A machinable parcel is any piece that is not a letter or a flat and that meets the size and weight standards as follows:

a. Minimum size: Except for cylindrical tubes and rolls or similar shaped pieces and labeling exceptions in Publication 52, a piece must be large enough to hold the required delivery address, return address, mailing labels, postage, barcode, endorsements, and other mail markings on a single optical plane without bending, folding, or overlapping (see 601.1.1.5). All labels and markings must meet the applicable specifications.

b. Maximum size: Not more than, 22 inches long, or 18 inches wide, or 15 inches high (see Exhibit 7.5.1b).

c. Minimum Weight: USPS Marketing Mail parcels must weigh 3.5 ounces, all other parcel products no minimum weight.

d. Maximum weight: Not more than 25 pounds.

[Revise Exhibit 7.5.1b reference number to read as follows:]

Exhibit 7.5 Machinable Parcel Dimensions

[Revise the graphic in renumbered Exhibit 7.5 by changing the width to be 18 inches and the height to be 15 inches and removing the image of the minimum size parcel.]

[Delete 7.5.2, Criteria for Lightweight Machinable Parcels, 7.5.3, Soft Goods and Enveloped Printed Matter, and 7.5.4, Exception, in their entirety.]

* * * * *

[Revise the heading and text of 7.6 to read as follows:]

7.6 Nonstandard Parcels

7.6.1 Dimensions and Weight

A parcel is considered nonstandard by dimensions or weight as follows:

a. Dimensions: A parcel that measures more than 22 inches in length or 18 inches in width or 15 inches in height.

b. Weight: A USPS Marketing Mail parcel that weighs less than 3.5 ounces or any parcel that weighs more than 25 pounds.

7.6.2 Characteristics

A parcel is considered nonstandard by the following characteristics:

a. Cylindrical tubes or rolls.

b. A can, or wood or metal box.

c. A parcel containing more than 24 ounces of liquid in glass containers, or 1 gallon or more of liquid in metal or plastic containers (see 601.3.4).

d. An insecurely wrapped or inadequately prepared parcel as provided under 601.3.0 and 601.4.0.

[Delete 7.7, Nonmachinable Parcel, in its entirety.]

* * * * *

8.0 Additional Physical Standards by Class of Mail

[Revise the text of 8.1 and 8.2 to read as follows:]

8.1 Priority Mail Express

Lower size and weight standards than provided under 7.3 may apply to Priority Mail Express addressed to certain APO/FPO and DPO mail subject to 703.2.0 and 703.4.0, and for Department of State mail subject to 703.3.0.

8.2 Priority Mail

[Revise the text of 8.2 to read as follows:]

8.2.1 Weight and Size

Lower weight and size standards than provided under 7.3 may apply to Priority Mail addressed to certain APO/FPO and DPO mail subject to 703.2.0 and 703.4.0, and for Department of State mail subject to 703.3.0.

8.2.2 Priority Mail Cubic

Priority Mail Cubic must not weigh more than 20 pounds. See 223.1.3 for additional information on size and characteristics.

8.3 USPS Ground Advantage—Commercial Parcels

[Delete 8.3.1, Weight, in its entirety and renumber 8.3.2 as 8.3.1.]

8.3.1 Size

[Revise the text of renumbered 8.3.1 to read as follows:]

A USPS Ground Advantage—Commercial parcel is:

* * * * *

[Delete item d in its entirety.]

[Add new 8.3.2 to read as follows:]

8.3.2 USPS Ground Advantage Commercial Cubic

USPS Ground Advantage Commercial Cubic must not weigh more than 20 pounds. See 285.1.3 for additional information on size and characteristics.

8.4 USPS Marketing Mail Parcels

* * * * *

8.4.2 Size

USPS Marketing Mail, parcel dimensions are as follows:

a. Regular Marketing Parcels and Nonprofit Marketing Parcels do not meet flat-size physical standards and have the following characteristics:

* * * * *

[Revise the text of items a1 through a3 to read as follows:]

1. Length: Not more than 12 inches.

2. Width not more than 9 inches high.

3. Height not more than 2 inches.

* * * * *

[Revise the introductory text of item b to read as follows:]

b. Nonprofit Machinable Parcels and Nonprofit Nonstandard Parcels dimensions are as follows:

* * * * *

[Revise the text of item b3 to read as follows:]

3. A Nonprofit Nonstandard Parcel is a parcel not meeting the criteria for machinable parcels as provided under 7.6.

8.5 Parcel Select

[Delete 8.5.1 and 8.5.2 and renumber 8.5.3 as 8.5.1.]

8.5.1 USPS Connect Local

[Revise the text of renumbered 8.5.1 to read as follows:]

Pieces mailed at USPS Connect Local prices may not weigh more than 25 pounds.

* * * * *

203 Basic Postage Statement, Documentation, and Preparation Standards

* * * * *

3.0 Standardized Documentation for First-Class Mail, Periodicals, USPS Marketing Mail, and Flat-Size Bound Printed Matter

* * * * *

3.3 Price Level Column Headings

The actual name of the price level (or abbreviation) is used for column headings required by 3.2 and shown below:

* * * * *

[Revise the introductory text of item b to read as follows:]

b. Presorted First-Class Mail, barcoded and nonbarcoded Periodicals flats, nonbarcoded Periodicals letters, and machinable, nonmachinable, and nonstandard, USPS Marketing Mail:

PRICE ABBREVIATION

* * * * *

[Revise the “ADC” line item in the “Price” column under item b to read as follows:]

ADC/RP&DC [USPS Marketing Mail nonmachinable letters, flats, and nonstandard parcels, and all Periodicals]

* * * * *

[Revise the “Mixed ADC” line item in the “Price” column under item b to read as follows:]

Mixed ADC [USPS Marketing Mail nonmachinable letters, flats, nonstandard parcels; and all Periodicals]

* * * * *

c. Carrier Route Periodicals and Enhanced Carrier Route USPS Marketing Mail:

PRICE ABBREVIATION

* * * * *

[Revise the “Saturation” and “High Density” line items to read as follows:]

Saturation [letters, flats, and nonstandard parcels]

High Density [letters, flats, and nonstandard parcels]

* * * * *

[Revise the “Basic” line item to read as follows:]

Basic [letters, flats, and nonstandard parcels]

* * * * *

3.4 Sortation Level

The actual sortation level (or corresponding abbreviation) is used for the bundle, tray, sack, or pallet levels required by 3.2 and shown below:

PRICE ABBREVIATION

* * * * *

[Revise the “5-Digit Scheme Carrier Routes” line item to read as follows:]

5-Digit Scheme Carrier Routes [sacks/flat trays and pallets (Periodicals and USPS Marketing Mail flats); sacks and pallets (nonstandard parcels)]

* * * * *

[Revise the “5-Digit Scheme Carrier Routes” line item to read as follows:]

5-Digit Scheme [pallets, Periodicals flats and nonstandard parcels, USPS Marketing Mail flats, Bound Printed Matter flats]

* * * * *

[Revise the “Merged 5-Digit Scheme” line item to read as follows:]

Merged 5-Digit Scheme [flat trays and pallets (Periodicals and USPS Marketing Mail flats); sacks and pallets (nonstandard parcels)]

* * * * *

[Revise the “Merged 3-Digit” line item to read as follows:]

Merged 3-Digit [flat trays (Periodicals flats); sacks (nonstandard parcels)]

* * * * *

[Revise the “SCF” line item to read as follows:]

SCF [flat trays and pallets (Periodicals flats and USPS Marketing Mail); sacks and pallets (Bound Printed Matter and nonstandard parcels)]

* * * * *

4.0 Bundles

* * * * *

4.10 Additional Standards for Unsacked/Untrayed Bundles Entered at DDU or S&DC Facilities

[Revise the introductory text of 4.10 to read as follows:]

Mailers may enter unsacked, untrayed, or nonpalletized bundles of carrier route, Periodicals, or USPS Marketing Mail flats and unsacked Bound Printed Matter (BPM) flats or nonstandard parcels (BPM only) at destination delivery units (DDUs) or sorting and delivery centers (DS&DC) if all the following conditions are met:

* * * * *

5.0 Letter and Flat Trays

* * * * *

5.12 Line 2 (Content Line)

Line 2 (content line) must meet these standards:

* * * * *

b. Codes: The codes shown below must be used as appropriate on Line 2 of tray, sack, and pallet labels.

CONTENT TYPE CODE

* * * * *

[Delete the “Irregular Parcels” line item.]

* * * * *

[Revise the “Mixed Machinable and Irregular Parcels” line item to read as follows:]

Mixed Machinable and Nonstandard Parcels MACH & NONSTD

[Revise the “Nonmachinable” line item to read as follows:]

Nonstandard NONSTD

* * * * *

7.0 Optional Endorsement Lines (OELs)

* * * * *

7.2.5 ZIP Code Information

* * * * *

Exhibit 7.2.5 OEL Labeling Lists

PROCESSING CATEGORY AND PRESORT TYPE

* * * * *

Periodicals ¹

* * * * *

[Revise the “Irregular parcels” line item under “Periodicals” in the “Processing Category and Presort Type” column to read as follows:]

Nonstandard parcels

* * * * *

Bound Printed Matter ¹

* * * * *

[Revise the “Irregular parcels” line item under “Bound Printed Matter” in the “Processing Category and Presort Type” column to read as follows:]

Nonstandard parcels

Media Mail

* * * * *

[Revise the “Irregular parcels” line item in the “Processing Category and Presort Type” column under “Media Mail” to read as follows:]

Nonstandard parcels

Library Mail

* * * * *

[Revise the “Irregular parcels” line item in the “Processing Category and Presort Type” column under “Media Mail” to read as follows:]

Nonstandard parcels

* * * * *

204 Barcode Standards

* * * * *

3.2.4 3-Digit Content Identifier Numbers

* * * * *

Exhibit 3.2.4 [1-21-24] 3-Digit Content Identifier Numbers

CLASS AND MAILING | CIN | HUMAN-READABLE CONTENT LINE

* * * * *

PRIORITY MAIL OPEN AND DISTRIBUTE

* * * * *

All Other Classes, Parcels

* * * * *

[Revise the “ASF/NDC/RPDC irregular parcels” line item under “All other Classes, Parcels, to read as follows:]

ASF/NDC nonstandard parcels | 034 | PMOD NONSTD NDC

* * * * *

[Revise the heading of “PER Irregular Parcels . . .” to read as follows:]

PER Nonstandard Parcels—Merged Carrier Route and Presorted

[Revise the text in the “Human-Readable Content Line” column to read as follows:]

merged 5-digit sacks | 340 | PER NONSTD CR/5D
merged 3-digit sacks | 354 | PER NONSTD CR/5D/3D
merged 5-digit scheme sacks | 365 | PER NONSTD CR/5D SCH

[Revise the heading of “PER Irregular Parcels—Carrier Route” to read as follows:]

PER Nonstandard Parcels—Carrier Route

[Revise the text in the “Human-Readable Content Line” column to read as follows:]

saturation price sacks | 397 | PER NONSTD WSS ¹
high density price sacks | 398 | PER NONSTD WSH ¹
basic price sacks | 395 | PER NONSTD CR ¹
5-digit carrier routes sacks | 396 | PER NONSTD 5D CR-RTS
5-digit scheme car. rts. sacks | 399 | PER NONSTD CR-RTS SCH
3-digit carrier routes sacks | 355 | PER NONSTD 3D CR-RTS

[Revise the heading of “PER Irregular Parcels—Presorted” to read as follows:]

PER Nonstandard Parcels—Presorted

[Revise the text in the “Human-Readable Content Line” column to read as follows:]

5-digit sacks | 389 | PER NONSTD 5D
3-digit sacks | 390 | PER NONSTD 3D
SCF sacks | 394 | PER NONSTD SCF
ADC sacks or trays | 391 | PER NONSTD ADC
mixed ADC sacks or trays | 392 | PER NONSTD WKG
origin mixed ADC sacks or trays | 363 | PER NONSTD WKG W FCM

* * * * *

[Revise the heading of “NEWS Irregular Parcels . . .” to read as follows:]

NEWS Nonstandard Parcels—Merged Carrier Route and Presorted

[Revise the text in the “Human-Readable Content Line” column to read as follows:]

merged 5-digit | 440 | NEWS NONSTD CR/5D
merged 5-digit scheme | 465 | NEWS NONSTD CR/5D SCH
merged 3-digit sacks | 454 | NEWS NONSTD CR/5D/3D

[Revise the heading of “NEWS Irregular Parcels—Carrier Route” to read as follows:]

NEWS Nonstandard Parcels—Carrier Route

[Revise the text in the “Human-Readable Content Line” column to read as follows:]

saturation price sacks | 497 | NEWS NONSTD WSS ¹
high density price sacks | 498 | NEWS NONSTD WSH ¹
basic price sacks | 495 | NEWS NONSTD CR ¹
5-digit carrier routes sacks | 496 | NEWS NONSTD 5D CR-RTS
5-digit scheme car. rts. sacks | 499 | NEWS NONSTD CR-RTS SCH
3-digit carrier routes sacks | 455 | NEWS NONSTD 3D CR-RTS

[Revise the heading of “NEWS Irregular Parcels—Carrier Route” to read as follows:]

NEWS Nonstandard Parcels—Presorted

[Revise the text in the “Human-Readable Content Line” column to read as follows:]

5-digit sacks | 489 | NEWS NONSTD 5D
3-digit sacks | 490 | NEWS NONSTD 3D
SCF sacks | 494 | NEWS NONSTD SCF
ADC sacks or trays | 491 | NEWS NONSTD ADC
mixed ADC sacks or trays | 492 | NEWS NONSTD WKG
origin mixed ADC sacks or trays | 463 | NEWS NONSTD WKG W FCM

* * * * *

[Revise the heading of “MKT Marketing Parcels less than 6 oz. and Irregular Parcels” to read as follows:]

MKT Marketing Parcels (Nonstandard) and Nonprofit Nonstandard Priced Parcels

[Revise the text in the “Human-Readable Content Line” column to read as follows:]

5-digit scheme sacks | 590 | MKT NONSTD 5D SCH
5-digit sacks | 590 | MKT NONSTD 5D
SCF sacks | 596 | MKT NONSTD SCF
ASF sacks | 571 | MKT NONSTD ASF
NDC sacks | 570 | MKT NONSTD NDC
mixed NDC sacks

[Revise the heading of “MKT Marketing Parcels 6 oz. or more and “Machinable Parcels” to read as follows:]

MKT Marketing Parcels (Machinable) and Nonprofit Machinable Priced Parcels

* * * * *

[Revise the heading of “MKT Machinable and Irregular Parcels—Presorted” to read as follows:]

MKT Machinable and Nonstandard Parcels—Presorted

[Revise the text in the “Human-Readable Content Line” column to read as follows:]

5-digit sacks | 603 | MKT MACH-NONSTD 5D
5-digit scheme sacks | 603 | MKT MACH-NONSTD 5D SCH

* * * * *

[Revise the heading of “Carrier Route BPM—Irregular Parcels” to read as follows:]

Carrier Route BPM—Nonstandard Parcels

[Revise the text in the “Human-Readable Content Line” column to read as follows:]

carrier route sacks | 697 | PSVC NONSTD CR ¹
5-digit carrier routes sacks | 698 | PSVC NONSTD CR-RTS
5-digit scheme car. rt. Sacks | 698 | PSVC NONSTD CR-RTS SCH

[Revise the heading of “Presorted BPM—Irregular Parcels” to read as follows:]

Presorted BPM—Nonstandard Parcels

[Revise the text in the “Human-Readable Content Line” column to read as follows:]

5-digit sacks | 690 | PSVC NONSTD 5D
5-digit scheme sacks | 690 | PSVC NONSTD 5D SCH
3-digit sacks | 691 | PSVC NONSTD 3D
SCF sacks | 696 | PSVC NONSTD SCF
ADC sacks | 692 | PSVC NONSTD ADC
mixed ADC sacks | 694 | PSVC NONSTD WKG

* * * * *

[Revise the heading of “Media Mail and Library Mail Irregular Parcels—Presorted” to read as follows:]

Media Mail and Library Mail Nonstandard Parcels—Presorted

[Revise the text in the “Human-Readable Content Line” column to read as follows:]

5-digit scheme sacks | 690 | PSVC NONSTD 5D SCH
5-digit sacks | 690 | PSVC NONSTD 5D
3-digit sacks | 691 | PSVC NONSTD 3D
ADC sacks | 692 | PSVC NONSTD ADC
mixed ADC sacks | 694 | PSVC NONSTD WKG

* * * * *

Parcel Select

* * * * *

[Revise the heading of “Parcel Select Irregular (Nonmachinable) Parcels—Presorted” to read as follows:]

Parcel Select—Nonstandard Parcels

[Revise the text in the “Human-Readable Content Line” column to read as follows:]

3-digit sacks | 691 | PSVC NONSTD 3D

* * * * *

[Revise the of Combined PSVC & MKT—Irregular Parcels less than 2 oz, and tubes and rolls (not APPS—machinable) to read as follows:]

Combined PSVC & MKT—Nonstandard Parcels cylindrical tubes and rolls

[Revise the text in the “Human-Readable Content Line” column to read as follows:]

3-digit sacks | 591 | MKT/PSVC NONSTD 3D
ADC sacks | 592 | MKT/PSVC NONSTD ADC
Mixed ADC sacks | 594 | MKT/PSVC NONSTD WKG

* * * * *

207 Periodicals

* * * * *

22.0 Preparing Nonbarcoded (Presorted) Periodicals

* * * * *

22.6 Sack Preparation

* * * For other mailing jobs, preparation sequence, sack size, and labeling:

a. 5-digit, required at 72 pieces, optional at 24 pieces minimum.

* * * * *

[Revise the text of item a2 to read as follows:]

2. Line 2: use “PER” or NEWS” as applicable; followed by “FLTS” or “NONSTD” as applicable; followed by “5D”.

b. 3-digit, required at 72 pieces, optional at 24 pieces minimum.

* * * * *

[Revise the text of item b2 to read as follows:]

2. Line 2: use “PER” or “NEWS” as applicable; followed by “FLTS” or “NONSTD” as applicable; followed by “3D”; followed by “NON BC” for flats.

c. SCF, required at 72 pieces, optional at 24 pieces minimum.

* * * * *

[Revise the text of item c2 to read as follows:]

2. Line 2: “PER” or “NEWS” as applicable; followed by “FLTS” or “NONSTD” as applicable; followed by “SCF”; followed by “NON BC” for flats.

d. Origin/entry SCF, required for the SCF of the origin (verification) office, optional for the SCF of an entry office other than the origin office, (no minimum).

* * * * *

[Revise the text of item d2 to read as follows:]

2. Line 2: usen “PER” or “NEWS” as applicable; followed by “FLTS” or “NONSTD” as applicable; followed by “SCF”; followed by “NON BC” for flats.

e. ADC, required at 72 pieces, optional at 24 pieces minimum.

* * * * *

[Revise the text of item e2 to read as follows:]

2. Line 2: “PER” or “NEWS” as applicable; followed by “NONSTD” as applicable; followed by “ADC”.

f. Origin mixed ADC, required; no minimum; for any remaining bundles for destinations in L201, Column B, corresponding to the origin ZIP Code in Column A.

* * * * *

[Revise the text of item f2 to read as follows:]

2. Line 2: “PER” or “NEWS” as applicable, followed by “NONSTD” as applicable, followed by “WKG W FCM.”

g. Mixed ADC, required (no minimum).

* * * * *

[Revise the text of item g2 to read as follows:]

2. Line 2: “PER” or “NEWS” as applicable; followed by “NONSTD” as applicable; followed by “WKG” for nonstandard parcels.

* * * * *

[Revise the heading of 23.4 to read as follows:]

23.4 Preparation—Flat-Size Pieces and Nonstandard Parcels

23.4.1 Flat Tray and Sacking Preparation and Labeling

* * * Preparation sequence, sack/tray size, and labeling:

a. Carrier route, required at 72 pieces, optional at 24 pieces, fewer pieces not permitted.

* * * * *

[Revise the text of item a2 to read as follows:]

2. Line 2: “PER” or “NEWS” as applicable; followed by “FLTS” or “NONSTD” as applicable; followed by “WSS” for saturation price mail, or “WSH” for high density price mail, or “CR” for basic price mail; followed by the route type and number.

b. 5-digit scheme carrier routes, required at 72 pieces, optional at 24 pieces, fewer pieces not permitted.

* * * * *

[Revise the text of item b2 to read as follows:]

2. Line 2: “PER” or “NEWS” as applicable; followed by “FLTS” or “NONSTD” as applicable; followed by “CR-RTS SCH.”

c. 5-digit carrier routes, required at 72 pieces, optional at 24 pieces, fewer pieces not permitted.

* * * * *

[Revise the text of item c2 to read as follows:]

2. Line 2: “PER” or “NEWS” as applicable; followed by “FLTS” or “NONSTD” as applicable; followed by “CR-RTS.”

d. 3-digit carrier routes, required with one 6-piece bundle. Flat-sized pieces must be prepared in flat trays (see 203.5.6).

* * * * *

[Revise the text of item d2 to read as follows:]

2. Line 2: “PER” or “NEWS” as applicable, followed by “FLTS 3D” or “NONSTD 3D” as applicable, followed by “CR-RTS.”

* * * * *

240 Commercial Mail USPS Marketing Mail

243 Prices and Eligibility

1.0 Prices and Fees

* * * * *

1.2 USPS Marketing Mail Prices

USPS Marketing Mail prices are applied as follows:

* * * * *

[Revise the text of item b to read as follows:]

b. A price determined by adding the per piece charge and the corresponding per pound charge applies to any USPS Marketing Mail piece that weighs more than the following: Nonmachinable letters and flats that weigh more than 4.0 ounces, presorted Marketing Parcels, Nonprofit Machinable and Nonprofit Nonstandard parcels that weigh more than 3.3 ounces and machinable parcels 3.5 ounces or more.

* * * * *

3.0 Basic Eligibility Standards for USPS Marketing Mail

* * * * *

3.2 Defining Characteristics

* * * * *

[Revise the heading and text of 3.2.3 to read as follows:]

3.2.3 Nonprofit USPS Marketing Mail Machinable and Nonstandard Parcels

Nonprofit USPS Marketing Mail parcels that do not qualify as Marketing parcels may be prepared and mailed as machinable or nonstandard parcels.

* * * * *

3.3 Additional Basic Standards for USPS Marketing Mail

Each USPS Marketing Mail mailing is subject to these general standards:

[Revise the text of item a to read as follows:]

a. All pieces in a mailing must be of the same processing category, except that nonstandard and machinable parcels may be combined in 5-digit scheme and 5-digit sacks or on 5-digit scheme and 5-digit pallets.

* * * * *

[Revise the last sentence of item f to read as follows:]

f. * * * Nonprofit USPS Marketing Mail machinable or nonstandard parcels must bear the addressee`s name and complete delivery address, or may use an alternative addressing format. DALS or DMLs may be used subject to 602.4.0.

* * * * *

4.0 Price Eligibility for USPS Marketing Mail

* * * * *

4.2 Minimum Per Piece Prices

The minimum per piece prices (the minimum postage that must be paid for each piece) apply as follows:

* * * * *

[Revise the fifth sentence of item c to read as follows:]

c. Individual prices. * * * There are also separate prices for Marketing Parcels, Nonprofit Machinable priced parcels, and Nonprofit Nonstandard priced parcels. * * *

* * * * *

5.0 Additional Eligibility Standards for Nonautomation USPS Marketing Mail Letters, Flats, and Presorted USPS Marketing Mail Parcels

* * * * *

5.3 Price Application

[Revise the second sentence of 5.3 to read as follows:]

* * * Prices for Nonprofit parcels not qualifying as Marketing Parcels apply separately to Nonprofit Machinable parcels and Nonprofit Nonstandard parcels. * * *

* * * * *

[Revise the heading of 5.8 to read as follows:]

5.8 Prices for Nonstandard Parcels and Marketing Parcels

5.8.1 5-Digit Price

[Revise the introductory text of 5.8.1 to read as follows:]

5-digit prices apply to nonstandard parcels and to Marketing parcels that are dropshipped to a DNDC/RPDC (or ASF/RPDC when claiming DNDC prices), DSCF/DRPDC, or DDU or DS&DC and presented:

* * * * *

5.8.2 SCF Price

[Revise the introductory text of 5.8.2 to read as follows:]

SCF prices apply to nonstandard parcels and to Marketing parcels that are dropshipped and presented to a DSCF/DRPDC or DNDC/DRPDC:

* * * * *

5.8.3 NDC Price

[Revise the introductory text of 5.8.3 to read as follows:]

NDC prices apply to nonstandard parcels and to Marketing parcels as follows under either of the following conditions:

* * * * *

5.8.4 Mixed NDC Price

[Revise the first sentence of 5.8.4 to read as follows:]

Mixed NDC prices apply to nonstandard parcels and to Marketing parcels in origin NDC/RPDC or mixed NDC/RPDC containers that are not eligible for 5-digit, SCF, or NDC prices. * * *

* * * * *

245 Mail Preparation

1.0 General Information for Mail Preparation

* * * * *

1.2 Definition of Mailings

Mailings are defined as:

* * * * *

b. USPS Marketing Mail. Except as provided in 243.3.6, the types of USPS Marketing Mail listed below may not be part of the same mailing.

* * * * *

[Revise the text of item b6 to read as follows:]

6. Machinable and nonmachinable or nonstandard pieces.

* * * * *

1.4 Preparation Definitions and Instructions

For purposes of preparing mail:

* * * * *

[Revise the fifth sentence of item j to read as follows:]

j. * * * The 5-digit scheme sort may not be used for other mail prepared on pallets, except for 5-digit bundles of USPS Marketing Mail nonstandard parcels that are part of a mailing job that is prepared in part as palletized flats at automation prices. * * *

* * * * *

11.0 Preparing Presorted Parcels

11.1 Basic Standards

All mailings and all pieces in each mailing at USPS Marketing Mail and Nonprofit USPS Marketing Mail parcel prices are subject to preparation standards in 11.3 or 11.4, and to these general standards:

* * * * *

[Revise the text of item b to read as follows:]

b. Marketing Parcels, Nonprofit Machinable priced parcels, and Nonprofit Nonstandard priced parcels must each be prepared as separate mailings, except under 11.3.1.

* * * * *

[Revise the heading of 11.3 to read as follows:]

11.3 Preparing Marketing Parcels (6 Ounces or More) and Nonprofit Machinable Parcels

11.3.1 Sacking

[Revise the text of 11.3.1 to read as follows:]

Prepare mailings of machinable Marketing Parcels weighing 6 ounces or more and mailings of Nonprofit Machinable priced parcels under 11.3. Prepare 5-digit sacks only for parcels dropshipped to a DNDC/RPDC (or ASF/RPDC when claiming DNDC prices), DSCF/DSCF, or DDU or DS&DC. Prepare ASF/RPDC or NDC/RPDC sacks only for parcels dropshipped to a DNDC/RPDC (or ASF/RPDC when claiming DNDC prices). There is no minimum for parcels in 5-digit/scheme sacks entered at a DDU or DS&DC. Mailers combining nonstandard parcels with machinable parcels placed in 5-digit/scheme sacks must prepare those sacks under 11.3.2a. Mailers combining machinable Marketing Parcels weighing 6 ounces or more with Nonprofit Machinable priced parcels placed in ASF/RPDC, NDC/RPDC, or mixed NDC/RPDC sacks must prepare the sacks under 11.3.2.

* * * * *

[Revise the heading of 11.4 to read as follows:]

11.4 Preparing Marketing Parcels (Less Than 6 Ounces) and Nonprofit Nonstandard Parcels

* * * * *

11.4.2 Sacking

[Revise the text of 11.4.2 to read as follows:]

Prepare mailings of nonstandard Marketing Parcels weighing less than 6 ounces and mailings of Nonprofit Nonstandard priced parcels under 11.4. Prepare 5-digit sacks only for parcels dropshipped to a DNDC/RP&DC (or ASF/RP&DC when claiming DNDC prices), DSCF/RP&DC, or DDU or S&DC. See 11.4.3 for restrictions on SCF/RP&DC, ASF/RP&DC, and NDC/RP&DC sacks. Mailers must prepare a sack when the mail for a required presort destination reaches 10 pounds of pieces. There is no minimum for parcels prepared in 5-digit/scheme sacks entered at a DDU or S&DC. Mailers combining Nonprofit Nonstandard priced parcels with Nonprofit Machinable priced parcels and machinable Marketing Parcels weighing 6 ounces or more in 5-digit/scheme sacks must prepare those sacks under 11.3.2. Mailers may not prepare sacks containing nonstandard and machinable parcels to other presort levels. Mailers may combine Nonprofit Nonstandard priced parcels with nonstandard Marketing Parcels in sacks under 11.4.3.

11.4.3 Sacking and Labeling

Preparation sequence, sack size, and labeling:

a. * * * Sacks must contain a 10-pound minimum except at DDU or S&DC entry which has no minimum; labeling:

* * * * *

[Revise the text of item a2 to read as follows:]

2. Line 2: For 5-digit scheme sacks, “STD NONSTD 5D SCH.” For 5-digit sacks, “STD NONSTD 5D.”

b. SCF/RP&DC, allowed only for mail deposited at a DSCF/RP&DC or a DNDC/RP&DC to claim SCF price; 10-pound minimum; labeling:

* * * * *

[Revise the text of item b2 to read as follows:]

2. For Line 2, “STD NONSTD SCF.”

c. ASF/RP&DC (optional), allowed only for mail deposited at an ASF/RP&DC to claim DNDC price; 10-pound minimum; labeling:

* * * * *

[Revise the text of item c2 to read as follows:]

2. Line 2: “STD NONSTD ASF.”

d. NDC/RP&DC, allowed only for mail deposited at a DNDC/RP&DC to claim the NDC price; 10-pound minimum; labeling:

* * * * *

[Revise the text of item d2 to read as follows:]

2. Line 2: “STD NONSTD NDC.”

e. Origin NDC/RPDC (required); no minimum; labeling:

* * * * *

[Revise the text of item e2 to read as follows:]

2. Line 2: “STD NONSTD NDC.”

f. Mixed NDC/RP&DC (required); no minimum; labeling:

* * * * *

[Revise the text of item f2 to read as follows:]

2. Line 2: “STD NONSTD WKG.”

* * * * *

250 Commercial Mail Parcel Select

* * * * *

255 Mail Preparation

* * * * *

4.0 Preparing Destination Entry Parcel Select

4.1 Preparing Destination Delivery Unit (DDU) or Sorting and Delivery Center (S&DC) Parcel Select

* * * * *

4.1.3 Sacking and Labeling

[Revise the last sentence of 4.1.3 to read as follows:]

* * * Machinable and nonstandard pieces may be combined in the same sack or on the same pallet (including pallet boxes on pallets).

* * * * *

4.2 Preparing Destination Hub (DHub) Parcel Select

* * * * *

4.2.3 Sacking and Labeling

Sacking requirements for DHub entry include the following:

* * * * *

[Revise the second sentence of item b to read as follows:]

b. * * * Machinable and nonstandard pieces may be combined in the same sack to meet this requirement. * * *

* * * * *

4.3 Preparing Destination SCF (DSCF)/RP&DC (DRP&DC) Parcel Select

* * * * *

4.3.2 Basic Standards

Pieces must meet the applicable standards in 4.0 and the following criteria:

* * * * *

[Revise the first sentence of item d to read as follows:]

d. Any remaining nonstandard parcels (as defined in 201.7.6) sorted to 3-digit ZIP Code prefixes in L002, Column C.* * *

4.3.3 Sacking and Labeling

Sacking requirements for DSCF/DRP&DC entry:

* * * * *

[Revise the second sentence of item b to read as follows:]

b. * * * Machinable and nonstandard pieces may be combined in the same sack to meet this requirement. * * *

* * * * *

[Revise the text of items f through h to read as follows:]

f. SCF sack labeling: Line 1, use L051; for Line 2, “PSVC MACH SCF.”

g. 3-digit nonstandard sack labeling: Line 1, use L051; for Line 2, “PSVC NONSTD 3D.”

h. See 705.8.0 for option to place 5-digit scheme and 5-digit DSCF/DRP&DC sacks, SCF/RP&DC sacks, and 3-digit nonstandard sacks on an SCF/RP&DC pallet.

4.4 Preparing Destination NDC (DNDC)/RP&DC (DRP&DC) Parcel Select

* * * * *

4.4.3 Sacking and Labeling

DNDC/DRP&DC mailing (if not bedloaded), must be prepared as follows:

* * * * *

[Revise the text of item b to read as follows:]

b. DNDC/DRP&DC nonstandard parcels that each weigh 25 pounds or less must be sacked under 5.0 if the parcels do not contain perishables and the size of the parcels allows a sack to hold at least two pieces. DNDC/DRP&DC nonstandard parcels that cannot be sacked in this manner or that weigh more than 25 pounds must be transported as outside (unsacked) pieces. If authorized in advance by the USPS, DNDC/DRP&DC nonstandard parcels may be palletized.

* * * * *

256 Enter and Deposit

* * * * *

2.0 Deposit

* * * * *

2.2 Containers

DNDC/DRP&DC mailings (if not bedloaded), DDU or S&DC mailings (if not bedloaded), and all DHub, and DSCF/DRP&DC mailings must be prepared as follows:

* * * * *

[Revise the text of item b to read as follows:]

b. For DNDC price, nonstandard parcels that each weigh 25 pounds or less must be sacked under 255.4.0 if the parcels do not contain perishables and the size of the parcels allows a sack to hold at least two pieces. DNDC/DRPDC nonstandard parcels that cannot be sacked in this manner or that weigh more than 25 pounds must be transported as outside (unsacked) pieces. If authorized in advance by the USPS, DNDC/DRPDC nonstandard parcels may be palletized.

[Revise the last sentence of item c to read as follows:]

c. * * * Machinable and nonstandard pieces may be included in the same sack.

* * * * *

[Revise the text of item e to read as follows:]

e. For DSCF/DRP&DC and DDU or DS&DC, nonstandard parcels may be palletized (including pallet boxes on pallets). Nonstandard parcels may be combined with machinable parcels on 5-digit scheme, 5-digit, and 3-digit pallets (including pallet boxes on pallets) claimed at DSCF or DDU prices under 705.8.0.

[Revise the last sentence of item f to read as follows:]

f. * * * Machinable and nonstandard pieces may be combined in 5-digit scheme and 5-digit sacks or on 5-digit scheme and 5-digit pallets (including pallet boxes).

* * * * *

2.17 DNDC/DRP&DC Parcel Select—Acceptance at Designated SCF/RP&DC-USPS Benefit

A mailing that is otherwise eligible for DNDC prices may be deposited, and accepted, at an SCF/RP&DC designated by the USPS when it benefits the USPS and:

[Revise the text of item a to read as follows:]

a. The mailing contains only machinable parcels prepared in 5-digit scheme and 5-digit sacks, pallets, or containers and nonstandard parcels prepared under 2.2.

* * * * *

260 Commercial Mail Bound Printed Matter

* * * * *

265 Mail Preparation

* * * * *

2.0 Bundles

* * * * *

[Revise the heading and text of 2.4 to read as follows:]

2.4 Bundle Sizes for Nonstandard Parcels

Mailers must prepare unsacked, nonpalletized bundles of nonstandard parcels for DDU or DS&DC entry according to 203.4.10, and as follows:

a. For Presorted nonstandard parcels, under 8.2 for parcels weighing less than 10 pounds and 8.3 for parcels weighing 10 pounds or more.

b. For carrier route nonstandard parcels, under 9.2 for parcels weighing less than 10 pounds and 9.3 for parcels weighing 10 pounds or more.

* * * * *

8.0 Preparing Presorted Parcels

8.1 Basic Standards

All mailings of Presorted Bound Printed Matter (BPM) are subject to the standards in 5.2, and 5.3, and to these general standards:

* * * * *

[Revise the second sentence of item b to read as follows:]

b. * * * See 201.7.0 for definitions of machinable and nonstandard parcels.

* * * * *

[Delete 8.2, Preparing Nonstandard Parcels Weighing Less than 10 Pounds, in its entirety and renumber 8.3 through 8.5 as 8.2 through 8.4.]

* * * * *

[Revise the heading of renumbered 8.2 to read as follows:]

8.2 Preparing Nonstandard Parcels

[Revise the text of renumbered 8.2.1 and 8.2.2 to read as follows:]

8.2.1 Piece Preparation

[Revise the last sentence of renumbered 8.2.1 to read as follows:]

* * * Bundling is not permitted.

8.2.2 Required Sacking

[Revise the text of renumbered 8.2.2 by deleting the fifth and last sentence.]

* * * * *

8.2.3 Sacking and Labeling

Preparation sequence and labeling:

a. 5-digit/scheme (required); labeling:

* * * * *

[Revise the text of item a2 to read as follows:]

2. Line 2: For 5-digit scheme sacks, “PSVC NONSTD 5D SCH.” For 5-digit sacks, “PSVC NONSTD 5D.”

b. 3-digit (required); labeling:

* * * * *

[Revise the text of item b2 to read as follows:]

2. Line 2: “PSVC NONSTD 3D.”

c. SCF/RPDC (optional); labeling:

[Revise the text of item c2 to read as follows:]

2. Line 2: “PSVC NONSTD SCF.”

d. ADC (required); labeling:

[Revise the text of item d2 to read as follows:]

2. Line 2: “PSVC NONSTD ADC.”

e. Mixed ADC/RPDC (required); labeling:

[Revise the text of item e2 to read as follows:]

2. Line 2: “PSVC NONSTD WKG.”

* * * * *

9.0 Preparing Carrier Route Parcels

9.1 Basic Standards

9.1.1 General Standards for Carrier Route Preparation

All mailings of Carrier Route Bound Printed Matter (BPM) are subject to the standards in 9.2 through 9.4 and to these general standards:

* * * * *

[Revise the second and last sentence of item b to read as follows:]

b. * * * A BPM nonstandard parcel is a piece that is not a machinable parcel as defined in 201.7.5.1. Nonstandard parcels also are pieces that meet the size and weight standards for a machinable parcel but are not individually boxed or packaged to withstand processing on parcel sorters under 601.3.0 and 601.4.0.

* * * * *

[Revise the heading of 9.2 to read as follows:]

9.2 Preparing Nonstandard Parcels Weighing Less Than 10 Pounds

* * * * *

9.2.2 Required Sacking

[Revise the first sentence in the introductory text of 9.2.2 to read as follows:]

Mailers may prepare nonstandard parcels as unsacked bundles under 203.4.10 or in bundles on pallets. * * *

* * * * *

9.2.4 Sack Label Line 2

Line 2 information:

[Revise the text of items a through c to read as follows:]

a. Carrier route: “PSVC NONSTD CR,” followed by the route type and number.

b. 5-digit scheme carrier routes: “PSVC NONSTD CR-RTS SCH.”

c. 5-digit carrier routes: “PSVC NONSTD CR-RTS.”

[Revise the heading of 9.3 to read as follows:]

9.3 Preparing Nonstandard Parcels Weighing 10 Pounds or More

[Revise the first and second sentence in the introductory text of 9.3 to read as follows:]

Mailers may prepare nonstandard parcels as unsacked bundles under 2.2 or in bundles on pallets. When preparing nonstandard parcels in sacks, place parcels only in direct carrier route sacks. * * * * * * Required preparation:

* * * * *

[Revise the text of item b to read as follows:]

b. Line 2: “PSVC NONSTD CR,” followed by the route type and number.

* * * * *

266 Enter and Deposit

* * * * *

3.0 Destination Entry

* * * * *

3.6 Mailings of Unsacked Bundles

[Revise the first sentence of 3.6 to read as follows:]

Mailers may present unsacked, nonpalletized bundles of BPM flats or nonstandard parcels that are properly prepared for and entered at DDU prices and unloaded according to standards in 3.8.9. * * *

* * * * *

4.0 Destination Network Distribution Center (DNDC)/Regional Processing and Distribution Center (DRP&DC) Entry

* * * * *

[Revise the heading of 4.5 to read as follows:]

4.5 Presorted Nonstandard Parcels

[Revise the first sentence of 4.5 to read as follows:]

Presorted nonstandard parcels in sacks or on pallets at all sort levels may claim DNDC prices. * * *

* * * * *

[Revise the heading of 4.7 to read as follows:]

4.7 Carrier Route Nonstandard Parcels

[Revise the first sentence of 4.7 to read as follows:]

Carrier Route nonstandard parcels in sacks at all sort levels or on pallets at all sort levels may claim DNDC prices. * * *

* * * * *

6.0 Destination Delivery Unit (DDU) or Sorting and Delivery Center (DS&DC) Entry

* * * * *

[Revise the heading of 6,5 to read as follows:]

6.5 Presorted Nonstandard Parcels

[Revise the first sentence of 6.5 to read as follows:]

Presorted nonstandard parcels in 5-digit scheme sacks and 5-digit sacks, on 5-digit scheme or 5-digit pallets, or prepared as unsacked 5-digit bundles may claim DDU prices. * * *

* * * * *

[Revise the heading of 6.7 to read as follows:]

6.7 Carrier Route Nonstandard Parcels

[Revise the first sentence of 6.7 to read as follows:]

Carrier Route nonstandard parcels in sacks, on 5-digit scheme and 5-digit pallets, or prepared as unsacked carrier route bundles may claim DDU prices. * * *

* * * * *

270 Commercial Mail Media Mail and Library Mail

273 Prices and Eligibility

* * * * *

7.0 Price Eligibility for Media Mail and Library Mail

* * * * *

7.3 Price Categories for Media Mail and Library Mail

* * * * *

7.3.2 Parcels

The price categories for parcels are as follows:

[Revise the last sentence of item a to read as follows:]

a. * * * Nonstandard parcels may qualify for the 5-digit price if prepared to preserve sortation by 5-digit ZIP Code as prescribed by the postmaster of the mailing office.

[Revise the last sentence of item b to read as follows:]

b. * * * Nonstandard parcels may qualify for the basic price if prepared to preserve sortation by NDC/RP&DC as prescribed by the postmaster of the mailing office.

* * * * *

275 Mail Preparation

* * * * *

4.0 Basic Standards for Preparing Media Mail and Library Mail

All mailings of Presorted Media Mail and Presorted Library Mail are subject to these general requirements:

* * * * *

[Revise the last sentence of item d to read as follows:]

d. * * * See 201.7.0 for definitions of machinable and nonstandard parcels.

* * * * *

6.0 Preparing Media Mail and Library Mail Parcels

6.1 Basic Standards

All mailings of Presorted Media Mail and Presorted Library Mail parcels are subject to these general requirements:

* * * * *

[Revise the text of item b to read as follows:]

b. All parcels in a mailing must be within the same processing category. See 201.7.0 for definitions of machinable and nonmachinable parcels.

* * * * *

[Revise the heading of 6.3 to read as follows:]

6.3 Preparing Nonstandard Parcels

* * * * *

6.3.4 Sacking and Labeling

Preparation sequence and labeling:

a. 5-digit/scheme (optional, but required for 5-digit price); labeling:

* * * * *

[Revise the text of item a2 to read as follows:]

2. Line 2: For 5-digit scheme sacks, “PSVC NONSTD 5D SCH.” For 5-digit sacks, “PSVC NONSTD 5D.”

b. 3-digit: required.

* * * * *

[Revise the text of item b2 to read as follows:]

2. Line 2: “PSVC NONSTD 3D.”

c. ADC/RPDC: required.

* * * * *

[Revise the text of item c2 to read as follows:]

2. Line 2: “PSVC NONSTD ADC.”

d. Mixed ADC/RPDC: required (no minimum).

* * * * *

[Revise the text of item d2 to read as follows:]

2. Line 2: “PSVC NONSTD WKG.”

* * * * *

500 Additional Mailing Services

* * * * *

1.4.1 Eligibility—Domestic Mail

* * * * *

Exhibit 1.4.1 Eligibility—Domestic Mail

* * * * *

[Revise footnote 7 to read as follows:]

7. USPS Marketing Mail, Nonprofit Machinable and Nonprofit Nonstandard priced parcels only.

* * * * *

600 Basic Standards for All Mailing Services

601 Mailability

1.0 General Standards

1.1 Determining Mail Processing Categories

1.1.1 Processing Categories

[Revise the first sentence of 1.1.1 to read as follows:]

There are four mail processing categories for mailpieces: letter, flat, machinable parcel, and nonstandard parcel. * * *

* * * * *

[Revise the text of 1.0 by adding a new 1.1.5 to read as follows:]

1.1.5 Nonmailable Placement of Address on Parcel-Size Pieces

The placement of the address on a parcel-size mailpiece may render a piece nonmailable. Except for cylindrical tubes or similar shaped pieces and labeling exceptions in Publication 52, if the address, return address, mailing labels, postage, barcode, endorsements, and other mail markings are not all placed on a single optical plane without bending, folding, or overlapping, it is nonmailable.

* * * * *

3.0 Packaging

[Renumber 3.1 as 3.1.1 and add new 3.1.1 heading to read as follows:]

3.1.1 Basic Standards

* * * * *

[Add new 3.1.2 to read as follows:]

3.1.2 Parcels

In addition to 3.1.1, except for hazardous, restricted, and perishable items as provided in Publication 52, all other parcel priced pieces must be packaged in a box or other acceptable container that meet the applicable standards under 3.0 and 4.0.

* * * * *

3.7 High-Density Items

[Revise the text of 3.7 to read as follows:]

High-density items (such as tools, hardware, and machine and auto parts) weighing from 20 to 45 pounds must be packaged in fiberboard boxes constructed of a minimum 200-pound test board or equivalent wood, metal, or plastic containers. Plastic, metal, and similar hard containers must be packaged, treated, or otherwise prepared so that their coefficient of friction or ability to slide on a smooth, hard surface is similar to that of a domestic-class fiberboard box of the same approximate size and weight. Closure must be done by staples, heat-shrinking, adhesives, or tape. Boxes without inner packing or containing loose material must be reinforced or banded with reinforced paper or plastic tape, pressure-sensitive filament tape, or firmly applied nonmetallic banding. Internal blocking and bracing, including the use of interior containers, cut forms, partitions, dunnage, and liners, must be used as required so that packages are capable of maintaining their integrity without damage to the contents if dropped once on one of their smallest sides on a solid surface from a height of 3 feet. These items from 45 to 70 pounds must be similarly packaged, closed, and reinforced, except that exterior containers must be a minimum of 275-pound test fiberboard or equivalent.

[Revise the heading and text of 3.8 to read as follows:]

3.8 Books

Books and similarly produced printed matter (such as catalogs) fastened together along one edge between hardback, paperback, or self-covers, that are more than one inch thick or one pound must not be accepted in letter-style non-reinforced flat envelopes or without packaging. Envelopes or other appropriate packaging must meet the standards in 3.0. Void spaces within containers must be filled with dunnage, or otherwise stabilized to prevent shifting or damage to the contents or container. Shipments are packaged according to the following weight categories:

a. Up to five pounds, sealing must be by multiple friction closures, completely clinched staples, heat-sealing, adhesives, tape, or nonmetallic banding. Although shrinkwrap is not acceptable as the only packaging for hardback books and similarly produced printed matter exceeding one pound or one inch thick, it may be used on the exterior of otherwise acceptable containers. Shrinkwrap (under 3.6) may be used as the only method of packaging for paperback books and similarly produced printed matter up to three pounds.

b. From 5 to 10 pounds, closure must be by tape, nonmetallic banding, or adhesives. Reinforced tape or nonmetallic banding is adequate for both closure and reinforcement. Nonmetallic banding must be firmly applied to the point that the straps must be tightened until they depress the carton at the edges.

c. From 10 to 25 pounds, reinforced tape or nonmetallic banding is adequate for closure and reinforcement. Nonmetallic banding must be firmly applied to the point that the straps tighten until they depress the carton at the edges.

d. From 25 to 50 pounds, hardbound books and similarly produced printed matter must be packaged in 275-pound test fiberboard boxes and paperback books and similarly produced printed matter must be packaged in 200-pound test fiberboard boxes.

e. From 50 to 70 pounds, hardbound books and similarly produced printed matter must be packaged in 350-pound test fiberboard boxes and paperback books and similarly produced printed matter must be packaged in 275-pound test fiberboard boxes.

[Renumber 3.9 through 3.13 as 3.13 through 3.17 and add new 3.9 through 3.12 to read as follows:]

3.9 Soft Goods

Boxes containing soft goods (e.g., textiles, clothing, linens, or draperies) weighing up to 5 pounds must be filled to capacity. Soft goods between the weight range of 5 to 20 pounds must be packaged in material with a minimum 70-pound outer ply basis weight. Closure of bags must be by completely clinched staples, heat-sealing, adhesives, sewing, or tape. Improperly clinched staples must be removed. Shrinkwrapping is not acceptable as the only packaging. Fiberboard containers must be made of at least 200-pound test board for soft goods weighing from 20 to 45 pounds and at least 275-pound test board for soft goods weighing from 45 to 70 pounds.

3.10 Sound Recordings

Shipments of recordings (e.g., records and CDs in paper sleeves, paperboard, or chipboard shells) weighing up to 10 pounds must be packed in 70-pound basis weight envelopes for weights up to 3 pounds, or outer corrugated, fiberboard containers for weights up to 10 pounds. When shipments weigh from 20 to 40 pounds, multiple shell containers must be packaged in 175-pound test fiberboard containers or equivalent and closed and reinforced by adhesives, kraft paper tape, equivalent plastic tape, or staples. When shipments weigh from 40 to 65 pounds, multiple shell containers up to 65 pounds must be packaged in 200-pound test fiberboard containers or equivalent and closed and reinforced as described for 20- to 40-pound containers, except that containers must be reinforced about every 8 inches around the package. Shipments weighing more than 65 pounds must be packaged in 275-pound test fiberboard containers or equivalent.

3.11 Film Cases

A film case weighing more than 5 pounds or with strap-type closures, except any film case the USPS authorizes to be entered as a machinable parcel under 201.7.0 and to be identified by the words “Machinable in United States Postal Service Equipment” permanently attached as a nontransferable decal in the lower right corner of the case.

3.12 Coefficient of Friction

All parcels must have the coefficient of friction or ability to slide on a smooth, hard surface, similar to that of a domestic-class fiberboard box of the same approximate size and weight.

* * * * *

4.0 Acceptable Mailing Containers

* * * * *

4.2 Boxes

Boxes are acceptable, subject to these standards:

[Revise the text of items a through c to read as follows:]

a. Paperboard boxes may be used for loads to 10 pounds.

b. Metal-stayed paperboard boxes may be used for loads to 20 pounds.

c. Solid and corrugated fiberboard boxes may be used for loads to 70 pounds or according to the limits in 3.0.

[Delete the table under item c in its entirety.]

* * * * *

[Delete item g in its entirety.]

* * * * *

[Revise the text of 4.4 and 4.5 to read as follows:]

4.4 Paper Bags and Wraps

For loads of up to 5 pounds, paper bags and wraps are acceptable when at least of a 50-pound basis weight (the strength of an average large grocery bag) and the items are immune from impact or pressure damage. A combination of plies adding up to or exceeding 50-pound basis weight is not acceptable. For loads of up to 20 pounds, reinforced bags or bags with a minimum of 70-pound basis weight are acceptable. Nonreinforced loose-fill padded bags are not acceptable as exterior containers, unless the exterior ply is at least 60-pound basis weight.

4.5 Plastic Bags

Plastic bags must be at least 2 mil thick polyethylene or equivalent for loads up to 5 pounds; 4 mil thick for loads up to 10 pounds.

4.6 Plastic Film

Heat-shrinkable plastic film—either irradiated polyethylene, linear low-density polyolefin, or copolymer—may be used as packaging for mailpieces under the following conditions only:

[Delete item a and renumber items b and c as items a and b. Revise the text of renumbered items a and b to read as follows:]

a. Film must be at least 1¼ (1.25) mil thick for a load up to 5 pounds.

b. Film must be at least 1½ (1.5) mil thick for a load up to 10 pounds, only when mailers prepare the parcels on 5-digit/scheme, merged 5-digit/scheme, or finer level pallets.

* * * * *

[Revise the heading of 7.0 and delete the text in its entirety to read as follows:]

7.0 Reserved

* * * * *

602 Addressing

* * * * *

3.0 Use of Alternative Addressing

* * * * *

3.2 Simplified Address

3.2.1 Conditions for General Use

The following conditions must be met when using a simplified address on commercial mailpieces:

* * * * *

[Revise the introductory text of item b to read as follows:]

b. USPS Marketing Mail, Periodicals, and Bound Printed Matter flat-size mailpieces (including USPS Marketing Mail pieces allowed as flats under 3.2.1c), and Periodicals nonstandard parcels for distribution to a city route or to Post Office boxes in offices with city carrier service may bear a simplified address, but only when complete distribution is made under the following conditions:

* * * * *

3.2.3 Mail Preparation

[Revise the third sentence in the introductory text of 3.2.3 to read as follows:]

* * * Mailers must prepare nonstandard parcels in carrier route bundles in sacks or directly on pallets. * * *

* * * * *

604 Postage Payment Methods and Refunds

* * * * *

5.0 Permit Imprint (Indicia)

* * * * *

5.3 Indicia Design, Placement, and Content

* * * * *

5.3.9 Use of a Company Permit Imprint

* * * The following standards apply:

[Revise the last sentence of item a to read as follows:]

a. * * * Sample pieces are not required for nonidentical-piece USPS Marketing Mail and Package Services machinable or nonstandard parcel mailings (e.g., merchandise and other fulfillment mailings).

* * * * *

700 Special Standards

* * * * *

705 Advanced Preparation and Special Postage Payment Systems

* * * * *

6.0 Combining Mailings of USPS Marketing Mail, Package Services, and Parcel Select Parcels

* * * * *

6.4 Combining Package Services, Parcel Select, and USPS Marketing Mail—Optional 3-Digit SCF Entry

* * * * *

6.4.2 Qualification and Preparation

Parcel Select and Bound Printed Matter machinable parcels, and USPS Marketing Mail parcels may be prepared for entry at designated SCFs under these standards:

* * * * *

[Revise the text of item d to read as follows:]

d. USPS Marketing Mail, machinable Marketing Parcels (regular and nonprofit) and Nonprofit Machinable priced parcels are eligible for the NDC/RPDC presort-level DNDC price. USPS Marketing Mail, nonstandard Marketing Parcels (regular and nonprofit) and Nonprofit Nonstandard priced parcels are eligible for the 3-digit presort-level DSCF price.

* * * * *

7.0 Combining Package Services and Parcel Select Parcels for Destination Entry

7.1 Combining Parcels—DSCF/RP&DC and DDU or S&DC Entry

* * * * *

7.1.2 Basic Standards

[Revise the introductory text of 7.1.2 to read as follows:]

Package Services and Parcel Select parcels that qualify as machinable and nonstandard under 201 and meet the following conditions may be combined in 5-digit scheme and 5-digit sacks or 5-digit scheme and 5-digit pallets under these conditions:

* * * * *

8.0 Preparing Pallets

* * * * *

8.5 General Preparation

8.5.1 Presort

[Revise the seventh sentence of 8.5.1 to read as follows:]

* * * These standards may result in some bundles of Periodicals flats and nonstandard parcels and USPS Marketing Mail flats that are part of a mailing job prepared in part as palletized flats at automation prices not being placed on the finest level of pallet possible. * * *

* * * * *

8.5.2 Required Preparation

The following standards apply to Periodicals, USPS Marketing Mail, Parcel Select, and Package Services, except Parcel Select mailed at DSCF and DDU prices:

* * * * *

[Revise the first sentence of item b to read as follows:]

b. For bundles of flat-size mailpieces or bundles of nonstandard parcels on pallets, after preparing all possible pallets under 8.5.2a, when 250 or more pounds of bundles remain for an ADC/RPDC (Periodicals) or for a NDC/ASF/RPDC (USPS Marketing Mail, Parcel Select, and Package Services), mailers must prepare the ADC/RPDC or NDC/ASF/RPDC pallet, as applicable for the class of mail. * * *

* * * * *

8.5.4 Minimum Height of Mail

The definitions of the minimum height of mail used to qualify for DSCF/DRPDC Parcel Select prices are as follows:

* * * * *

[Revise the first sentence of item b to read as follows:]

b. Nonstandard parcels. * * *

* * * * *

8.5.6 Mail on Pallets

These standards apply to mail on pallets:

* * * * *

[Revise the text of items a and b to read as follows:]

a. For Bound Printed Matter nonstandard parcels, Presorted and Carrier Route price mail may be combined on all levels of pallet. For Bound Printed Matter flats, Presorted and Carrier Route price mail may be combined on all levels of pallet except as provided in 8.5.6g.

b. For sacks or flat trays of Periodicals, USPS Marketing Mail, and Bound Printed Matter flats or nonstandard parcels, carrier route price mail must be prepared on separate 5-digit pallets from automation price and/or presorted price mail.

* * * * *

8.6.5 Line 2 (Content Line)

Line 2 (content line) must meet these standards:

* * * * *

b. Codes. The codes shown below must be used as appropriate on Line 2 of sack, tray, and pallet labels.

CONTENT TYPE CODE

* * * * *

[Delete the “Irregular Parcels” line item in its entirety.]

* * * * *

[Revise the “Content Type” text of the “Mixed Machinable and Irregular” line item to read as follows:]

Mixed Machinable and Nonstandard Parcels MACH & NONSTD (USPS Marketing Mail only)

* * * * *

[Revise the “Content Type” text of the “Nonmachinable Parcels” line item to read as follows:]

Nonstandard Parcels NONSTD

* * * * *

8.8 Basic Uses

These types of mail may be palletized:

* * * * *

[Revise the text of item d to read as follows:]

d. Machinable or nonstandard parcels.

* * * * *

8.9 Bundles on Pallets

8.9.1 Applicability

[Revise the first sentence of 8.9.1 to read as follows:]

Presort destination bundles of Periodicals, USPS Marketing Mail, and Package Services flats and nonstandard parcels may be placed directly on pallets under 8.9.2 through 8.9.5 and 8.10. * * *

* * * * *

8.9.5 Bound Printed Matter

Bound Printed Matter on pallets must be bundled as follows:

* * * * *

b. Presorted and Carrier Route Bound Printed Matter:

[Revise the first sentence of item b1 to read as follows:]

1. Only individual pieces of flats or nonstandard parcels that weigh less than 10 pounds each may be prepared as bundles on pallets. * * *

* * * * *

8.10.2 Periodicals—Bundles, Sacks, Letter or Flat Trays

[Revise the seventh sentence in the introductory text of 8.10.2 to read as follows:]

* * * Bundles of Periodicals flats and nonstandard parcels may also be palletized under 10.0, 12.0, or 13.0. * * *

* * * * *

[Revise the third sentence in the introductory text of item b to read as follows:]

b. * * * Required for bundles containing all other flats or nonstandard parcels. * * *

* * * * *

[Revise the third sentence in the introductory text of item c to read as follows:]

c. * * * Required for bundles containing all other flats and nonstandard parcels. * * *

* * * * *

[Revise the third sentence in the introductory text of item e to read as follows:]

e. * * * Required for bundles containing all other flats or nonstandard parcels. * * *

* * * * *

[Revise the first sentence in the introductory text of item f to read as follows:]

f. 5-digit, required, except for letter trays; permitted for bundles, trays, and sacks (nonstandard parcels only). * * *

* * * * *

[Revise the introductory text of item h to read as follows:]

h. SCF, required, permitted for bundles, trays, and sacks (nonstandard parcels only). The pallet may contain carrier route, automation price, and/or Presorted price mail for the 3-digit ZIP Code groups in L005. Mailers may place origin mixed ADC (OMX) sacks (nonstandard parcels only) or flat trays on origin SCF pallets. Labeling:

* * * * *

[Revise the first sentence in the introductory text of item i to read as follows:]

i. ADC, required, permitted for bundles, trays, and sacks (nonstandard parcels only). * * *

* * * * *

8.10.3 USPS Marketing Mail—Bundles, Sacks, or Trays

[Revise the fifth and sixth sentence of the introductory text of 8.10.3 to read as follows:]

* * * For parcels, use this preparation only for nonstandard parcels in sacks. Palletize unbundled or unsacked nonstandard parcels under 8.10.8. * * *

* * * * *

d. 5-digit, required except for trays, permitted for bundles, trays, and sacks (when applicable). * * * * * * Labeling:

* * * * *

[Revise the first sentence of item d2 to read as follows:]

2. Line 2: For flats and nonstandard parcels, use “STD” followed by “FLTS” or “NONSTD,” as applicable; followed by “5D” followed by “BARCODED” (or “BC”) if the pallet contains automation-price mail; followed by “NONBARCODED” (or “NBC”) if the pallet contains Presorted-price mail. * * *

* * * * *

[Revise the first sentence in the introductory text of item f to read as follows:]

f. SCF, required, permitted for bundles, trays, and sacks (nonstandard parcels only). * * *

* * * * *

[Revise the first sentence in the text of item f2 to read as follows:]

2. Line 2: For flats and nonstandard parcels, “STD” followed by “FLTS” or “NONSTD,” as applicable; followed by “SCF”; followed by “BARCODED” (or “BC”) if pallet contains automation price mail; followed by “NONBARCODED” (or “NBC”) if pallet contains carrier route and/or Presorted price mail. * * *

g. ASF, required unless bundle reallocation is used under 8.13, permitted for bundles, trays, and sacks (nonstandard parcels only). * * * * * * Labeling:

* * * * *

[Revise the first sentence in the text of item g2 to read as follows:]

2. Line 2: For flats and nonstandard parcels, “STD” followed by “FLTS” or “NONSTD,” as applicable; followed by “ASF”; followed by “BARCODED” (or “BC”) if pallet contains automation price mail; followed by “NONBARCODED” (or “NBC”) if pallet contains carrier route and/or Presorted price mail. * * *

[Revise the first sentence in the introductory text of item h to read as follows:]

h. NDC, required, permitted for bundles, trays, and sacks (nonstandard parcels only). * * *

* * * * *

[Revise the first sentence in the text of item h2 to read as follows:]

2. Line 2: For flats and nonstandard parcels, “STD” followed by “FLTS” or “NONSTD,” as applicable; followed by “NDC”; followed by “BARCODED” (or “BC”) if pallet contains automation price mail; followed by “NONBARCODED” (or “NBC”) if pallet contains carrier route and/or Presorted price mail. * * *

[Revise the introductory text of item i to read as follows:]

i. Mixed NDC, optional, permitted for bundles, trays, and sacks (nonstandard parcels only); allowed with no minimum and required at 100 pounds of mail for bundles of flats. Bundles of flats totaling less than 100 pounds in weight must be trayed if not palletized. The pallet may contain carrier route, automation, and/or Presorted mail. Mailers must place trays and sacks (nonstandard parcels only) containing pieces paid at the single-piece price on the mixed NDC pallet (unless required to be presented separately by special postage payment authorization). Labeling:

* * * * *

[Revise the first sentence in the text of item i2 to read as follows:]

2. Line 2: For flats and nonstandard parcels, “STD” followed by “FLTS” or “NONSTD,” as applicable; followed by “BARCODED” (or “BC”) if pallet contains automation price mail; followed by “NONBARCODED” (or “NBC”) if pallet contains carrier route and/or Presorted price mail; followed by “WKG.” * * *

* * * * *

[Revise the heading of 8.10.5 to read as follows:]

8.10.5 Package Services Nonstandard Parcels—Bundles and Sacks

[Revise the fifth sentence of 8.10.5 to read as follows:]

* * * At the mailer's option, all Package Services nonstandard parcels also may be prepared for destination entry (see 7.0). * * *

a. Merged 5-digit scheme, required, permitted for bundles only. * * * * * * Labeling:

* * * * *

[Revise the text of item a2 to read as follows:]

2. Line 2: “PSVC NONSTD CR/5D”; followed by “SCHEME” (or “SCH”).

b. 5-digit scheme carrier routes, required, permitted for bundles only. * * * * * * Labeling:

* * * * *

[Revise the text of item b2 to read as follows:]

2. Line 2: “PSVC NONSTD”; followed by “CARRIER ROUTES” (or “CR-RTS”); followed by “SCHEME” (or “SCH”).

c. 5-digit scheme, required, permitted for bundles only. * * * * * * Labeling:

* * * * *

[Revise the text of item c2 to read as follows:]

2. Line 2: “PSVC NONSTD 5D”; followed by “SCHEME” (or “SCH”).

d. Merged 5-digit, required, permitted for bundles only. * * * * * * Labeling:

* * * * *

[Revise the text of item d2 to read as follows:]

2. Line 2: “PSVC NONSTD CR/5D.”

e. 5-digit carrier routes, required, permitted for bundles and sacks. * * * * * * Labeling:

* * * * *

[Revise the text of item e2 to read as follows:]

2. Line 2: “PSVC NONSTD”; followed by “CARRIER ROUTES” (or “CR-RTS”).

f. 5-digit, required, permitted for bundles and sacks. * * * * * * Labeling:

* * * * *

[Revise the text of item f2 to read as follows:]

2. Line 2: “PSVC NONSTD 5D.”

g. 3-digit, optional, option not available for bundles for 3-digit ZIP Code prefixes marked “N” in L002. * * * * * * Labeling:

* * * * *

[Revise the text of item g2 to read as follows:]

2. Line 2: “PSVC NONSTD 3D.”

h. SCF, required, permitted for bundles and sacks. * * * * * * Labeling:

* * * * *

[Revise the text of item h2 to read as follows:]

2. Line 2: “PSVC NONSTD SCF.”

i. ASF, required, permitted for bundles and sacks. * * * * * * Labeling:

* * * * *

[Revise the text of item i2 to read as follows:]

2. Line 2: “PSVC NONSTD ASF.”

j. NDC, required, permitted for bundles and sacks. * * * * * * Labeling:

* * * * *

[Revise the text of item j2 to read as follows:]

2. Line 2: “PSVC NONSTD NDC.”

k. Mixed NDC, optional, permitted for sacks only. * * * * * * Labeling:

* * * * *

[Revise the text of item k2 to read as follows:]

2. Line 2: “PSVC NONSTD WKG.”

* * * * *

[Revise the heading and introductory text of 8.10.8 to read as follows:]

8.10.8 Nonstandard Parcels Weighing 2 Ounces or More—USPS Marketing Mail, Including Marketing Parcels

Mailers who palletize unbundled or unsacked nonstandard parcels must make pallets or pallet boxes when there are 250 pounds or more for the destination levels below for DNDC, DSCF, or DDU prices. When prepared at origin, a 200 pound minimum is required for the NDC price. Prepare pallets or pallet boxes of nonstandard parcels (except tubes, rolls, and similar pieces) weighing 2 ounces or more under 8.0 and in the sequence listed below. Label pallets or pallet boxes according to the Line 1 and Line 2 information listed below and under 8.6. Mailers may not prepare tubes, rolls, and similar pieces or pieces that weigh less than 2 ounces on pallets or in pallet boxes, except for pieces in carrier route bundles or in sacks under 8.10.3. Preparation sequence and labeling:

a. 5-digit scheme, required. * * * * * * Labeling:

* * * * *

[Revise the text of item a2 to read as follows:]

2. Line 2: “STD NONSTD 5D”; followed by “SCHEME” (or “SCH”).

b. 5-digit, required. * * * * * * Labeling:

* * * * *

[Revise the text of item b2 to read as follows:]

2. Line 2: “STD NONSTD 5D.”

c. SCF, required. Allowed only for mail deposited at a DSCF to claim SCF price; labeling:

* * * * *

[Revise the text of item c2 to read as follows:]

2. Line 2: Use “STD NONSTD SCF.”

d. ASF, optional, but required for DNDC prices. * * * * * * Labeling:

* * * * *

[Revise the text of item d2 to read as follows:]

2. Line 2: “STD NONSTD ASF.”

e. NDC, required. * * * * * * Labeling:

* * * * *

[Revise the text of item e2 to read as follows:]

2. Line 2: “STD NONSTD NDC.”

f. Origin NDC (required); no minimum; labeling:

* * * * *

[Revise the text of item f2 to read as follows:]

2. Line 2: “STD NONSTD NDC.”

g. Mixed NDC, optional. Labeling:

* * * * *

[Revise the text of item g2 to read as follows:]

2. Line 2: “STD NONSTD WKG.”

[Revise the heading of 8.11 to read as follows:]

8.11 Bundle Reallocation To Protect SCF Pallet for Periodicals Flats and Nonstandard Parcels and USPS Marketing Mail Flats on Pallets

* * * * *

8.11.3 Reallocation of Bundles If Optional 3-Digit Pallets Are Prepared

Reallocation rules are as follows:

* * * * *

[Revise the last sentence of item d to read as follows:]

d. * * * Mail that falls beyond the SCF/RPDC pallet level must be placed on the next appropriate pallet (ADC/RPDC, ASF/RPDC, NDC/RPDC or MNDC/MRPDC) or in the next appropriate sack (nonstandard parcels) or flat tray.

8.11.4 Reallocation of Bundles If Optional 3-Digit Pallets Are Not Prepared

Reallocation rules are as follows:

* * * * *

[Revise the last sentence of item b to read as follows:]

b. * * * Mail that falls beyond the SCF/RPDC pallet level must be placed on the next appropriate pallet (ADC/RPDC, ASF/RPDC, NDC/RPDC, or MNDC/MRPDC) or in the next appropriate sack (nonstandard parcels) or flat tray.

* * * * *

[Revise the heading of 8.12 to read as follows:]

8.12 Bundle Reallocation to Protect ADC Pallet for Periodicals Flats and Nonstandard Parcels on Pallets

* * * * *

8.14 Pallets of Bundles, Sacks, and Trays

* * * * *

8.14.2 USPS Marketing Mail

Additional pallet preparation:

[Revise the last sentence of item a to read as follows:]

a. Combined mailings. * * * * * * Mailers may include machinable parcels and nonstandard parcels on 5-digit pallets.

* * * * *

8.18 Parcel Select DSCF Prices—Parcels on Pallets

8.18.1 Basic Preparation, Parcels on Pallets

Unless prepared under 8.18.2, or in sacks, mail must be prepared for the DSCF price as follows:

[Revise the fourth sentence of item a to read as follows:]

a. General. * * * Machinable and nonstandard pieces may be combined on the same pallet or in the same overflow sack when sorted to 5-digit scheme or 5-digit destinations. * * *

* * * * *

8.18.2 Alternate Preparation, Parcels on Pallets

DSCF price mailings not prepared under 8.18.1 may be prepared as follows:

[Revise the first and last sentence of item a to read as follows:]

a. General. All DSCF price mail in the mailing must be sorted to 5-digit scheme, 5-digit, SCF (machinable parcels only), or 3-digit (nonstandard) destinations under 8.18.2 (i.e., mail prepared under 8.18.1 and mail sacked under 255.4.2 must not be included in a mailing prepared under 8.18.2). * * * * * * Machinable and nonstandard pieces may be combined on the same pallet. Double-stacking is permitted if the requirements of 8.3 are met.

* * * * *

8.20 Parcel Select and Bound Printed Matter DDU Prices

[Revise the fourth sentence in the introductory text of 8.20 to read as follows:]

* * * Machinable and nonstandard pieces may be combined. * * *

* * * * *

9.0 Combining Bundles of Automation and Nonautomation Flats in Flat Trays and Sacks

* * * * *

9.2 Periodicals

* * * * *

9.2.4 Optional Sack Preparation and Labeling

[Revise the fifth sentence in the introductory text of 9.2.4 to read as follows:]

* * * If, due to the physical size of the mailpieces, the machinable barcoded price pieces are considered flat-size under 201.6.0 and the machinable nonbarcoded price pieces are considered nonstandard parcels under 201.7.6, the processing category shown on the sack label must show “FLTS.” * * *

* * * * *

10.0 Merging Bundles of Flats Using the City State Product

* * * * *

10.1.4 Sack and Flat-Tray Preparation and Labeling

[Revise the introductory text of 10.1.4 to read as follows:]

All carrier route bundles must be placed in sacks/flat trays under 10.1.4a through 10.1.4e and 10.1.4h as described below. When sorting is performed under this section, mailers must prepare merged 5-digit scheme sacks (nonstandard parcels) or flat trays, 5-digit scheme carrier routes sacks/flat trays, and merged 5-digit sacks (nonstandard parcels) or flat trays for all possible 5-digit schemes or 5-digit ZIP Codes as applicable, using L001 (merged 5-digit scheme and 5-digit scheme carrier routes sort only) and the Carrier Route Indicators field in the City State Product when there is enough volume for the 5-digit scheme or 5-digit ZIP Code to prepare such sacks (nonstandard parcels) or flat trays under 10.1.4. Mailers must label sacks/flat trays according to the Line 1 and Line 2 information listed below and under 207.20.1. If, due to the physical size of the mailpieces, the barcoded pieces are considered flat-size under 207.26.0, and the carrier route pieces and nonbarcoded pieces are considered nonstandard parcels under 201.7.6, “FLTS” must be shown as the processing category on the sack/tray label. If a mailing job does not contain barcoded price pieces and the carrier route pieces and the nonbarcoded pieces are nonstandard parcel shaped, use “NONSTD” for the processing category on the contents line of the label. Mailers must prepare sacks containing carrier route and 5-digit bundles from the carrier route, barcoded, and nonbarcoded mailings in the mailing job in the following manner and sequence:

* * * * *

[Revise the text of item h to read as follows:]

h. Merged 3-digit. Required for carrier route, 5-digit, and 5-digit scheme bundles remaining after preparing sacks (nonstandard parcels only) or flat trays under 10.1.4a through 10.1.4g, and any 3-digit and 3-digit scheme bundles with a minimum of 24 pieces for a 3-digit area. Labeling:

* * * * *

12.0 Merging Bundles of Flats on Pallets Using a 5 Percent Threshold

* * * * *

12.1.5 Pallet Preparation and Labeling

[Revise the text in the fourth and last sentence of 12.1.5 to read as follows:]

* * * If, due to the physical size of the mailpieces, the barcoded price pieces are considered flat-size under 201.6.0 and the carrier route sorted pieces and nonbarcoded price pieces are considered nonstandard parcels under 201.7.6, “FLTS” must be shown as the processing category on the pallet label. If a mailing contains no barcoded price pieces and the carrier route pieces and the nonbarcoded pieces are nonstandard parcels, use “NONSTD for the processing category on the contents line of the pallet label. Prepare and label pallets as follows:

* * * * *

[Revise the second sentence of item c to read as follows:]

c. * * * Required for all other flats and nonstandard parcels. * * *

* * * * *

13.0 Merging Bundles of Flats on Pallets Using the City State Product and a 5 Percent Threshold

* * * * *

13.1.5 Pallet Preparation and Labeling

[Revise the fourth and last sentence of 13.1.5 to read as follows:]

* * * If, due to the physical size of the mailpieces, the barcoded price pieces are considered flat-size under 201.6.0 and the carrier route sorted pieces and nonbarcoded price pieces are considered nonstandard parcels under 201.7.6, “FLTS” must be shown as the processing category on the pallet label. If a mailing contains no barcoded price pieces and the carrier route pieces and the nonbarcoded of pieces are nonstandard parcels, use “NONSTD” for the processing category on the contents line of the pallet label. Prepare and label pallets as follows:

* * * * *

21.0 Optional Combined Parcel Mailings

* * * * *

21.3 Mail Preparation

21.3.1 Basic Standards

Prepare combined mailings as follows:

a. Different parcel types must be prepared separately for combined parcel mailings as indicated below:

* * * * *

[Revise the text of items a2 and a3 to read as follows:]

2. USPS Marketing Mail, Parcel Select, and Package Services nonstandard parcels, except for tubes, rolls, triangles, and other similarly nonstandard-shaped pieces: Use “STD/PSVC” for line 2 content labeling.

3. USPS Marketing Mail, Parcel Select, and Package Services tubes, rolls, triangles, and similarly nonstandard-shaped parcels: Use “STD/PSVC NONSTD” for line 2 content labeling.

* * * * *

21.3.3 Combining USPS Marketing Mail, Parcel Select, and Package Services APPS-Machinable Parcels

[Revise the text of 21.3.3 to read as follows:]

Prepare and enter USPS Marketing Mail, Parcel Select, and Package Services nonstandard parcels, that are not tubes, rolls, triangles, or similarly nonstandard-shaped parcels) as combined APPS-machinable parcels as shown in the table below.

* * * * *

Index

* * * * *

B

* * * * *

Bound Printed Matter, Commercial Parcels

* * * * *

[Revise the “carrier route irregular parcels” line item under “Bound Printed Matter, Commercial Parcels” to read as follows:]

carrier route nonstandard parcels, 265.9.2, 265.9.3

* * * * *

[Revise the “presorted irregular parcels” line item under “Bound Printed Matter, Commercial Parcels” to read as follows:]

presorted nonstandard parcels, 265.8.2, 265.8.3

* * * * *

[Revise the “nonmachinable parcels” line item under “Bound Printed Matter, Commercial Parcels” to read as follows:]

nonstandard parcels, 201.7.6

* * * * *

[Revise the “bundles of irregular parcels on pallets” line item under “Bound Printed Matter, Commercial Parcels” to read as follows:]

bundles of nonstandard parcels on pallets, 705.8.10.5

* * * * *

[Revise the “carrier route irregular parcels” line item under “Bound Printed Matter, Commercial Parcels” to read as follows:]

carrier route nonstandard parcels, 265.9.2, 265.9.3

* * * * *

[Revise the “presorted irregular parcels” line item under “Bound Printed Matter, Commercial Parcels” to read as follows:]

presorted nonstandard parcels, 265.8.2, 265.8.3

* * * * *

[Revise the “sacks of irregular parcels on pallets” line item under “Bound Printed Matter, Commercial Parcels” to read as follows:]

sacks of nonstandard parcels on pallets, 705.8.10.5

* * * * *

I

* * * * *

[Delete the “Irregular parcels” line item under “I”.]

* * * * *

L

* * * * *

Library Mail, Commercial Parcels

* * * * *

[Revise the “irregular parcels” and “irregular parcels on pallets” line items under “Library Mail, Commercial Parcels” to read as follows:]

nonstandard parcels, 275.6.3

nonstandard parcels on pallets, 705.8.10.5

* * * * *

[Delete the second duplicated line item “irregular parcels” after the “bundles” line item.]

* * * * *

[Revise the “nonmachinable parcels” line item under “Library Mail, Commercial Parcels” to read as follows:]

nonstandard parcels, 201.7.6

* * * * *

M

* * * * *

Media Mail, commercial parcels

* * * * *

[Revise the “irregular parcels” and “irregular parcels on pallets” line items under “Media Mail, Commercial Parcels” to read as follows:]

nonstandard parcels, 275.6.3

nonstandard parcels on pallets, 705.8.10.5

* * * * *

[Revise the “nonmachinable parcels” line item under “Media Mail, Commercial Parcels” to read as follows:]

nonstandard parcels, 201.7.6

* * * * *

N

* * * * *

[Revise the “nonmachinable” line item under “N” to read as follows:]

Nonstandard

* * * * *

[Revise the “Parcel Select” line item under the renamed “nonstandard” to read as follows:]

Parcel Select, 201.7.6

* * * * *

P

* * * * *

Parcel Select

* * * * *

[Revise the “irregular parcels on pallets” line item under “Parcel Select” to read as follows:]

nonstandard parcels on pallets, 705.8.10.5

* * * * *

[Revise the “nonmachinable parcels on pallets” line item under “Parcel Select” to read as follows:]

nonstandard parcels on pallets, 705.8.18.2

* * * * *

[Revise the “nonmachinable parcels” line item under “Parcel Select” to read as follows:]

nonstandard parcels, 201.7.6

* * * * *

Parcels

[Revise the “nonmachinable criteria” heading under “parcels” to read as follows:]

nonstandard criteria

[Revise the “commercial mail” line item under renamed “nonstandard criteria” to read as follows:]

commercial mail, 201.7.6

* * * * *

Periodicals

* * * * *

[Revise the “carrier route irregular parcels in sacks” line item under “Periodicals” to read as follows:]

carrier route nonstandard parcels in sacks, 207.23.4

* * * * *

[Revise the “irregular parcels in sacks” line item under “Periodicals” to read as follows:]

nonstandard parcels in sacks, 207.22.6

* * * * *

S

* * * * *

size

* * * * *

[Revise the “nonmachinable parcels” line item under “Size” to read as follows:]

nonstandard parcels, 101.3.0, 201.7.0

* * * * *

U

* * * * *

USPS Marketing Mail, Parcels

* * * * *

[Revise the “bundling for irregular parcels” line item under “USPS Marketing Mail, parcels” to read as follows:]

bundling for nonstandard parcels, 245.11.4, 245.12.5

* * * * *

[Revise the “presorted irregular parcels” line item under “USPS Marketing Mail, parcels” to read as follows:]

presorted nonstandard parcels, 245.11.4

* * * * *

Christopher Doyle,
Attorney, Ethics & Legal Compliance.

[FR Doc. 2024-18276 Filed 8-15-24; 8:45 am]

BILLING CODE P